SMALL BUSINESS ADMINISTRATION

[Disaster Declaration #16884 and #16885; Louisiana Disaster Number LA-00109]

Presidential Declaration of a Major Disaster for Public Assistance Only for the State of Louisiana

AGENCY: U.S. Small Business Administration.

ACTION: Notice.

SUMMARY: This is a Notice of the Presidential declaration of a major disaster for Public Assistance Only for the State of Louisiana (FEMA-4577-DR), dated 02/25/2021.

Incident: Hurricane Zeta.

Incident Period: 10/26/2020 through 10/29/2020.

DATES: Issued on 02/25/2021.

Physical Loan Application Deadline Date: 04/26/2021.

Economic Injury (EIDL) Loan Application Deadline Date: 11/26/2021.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 02/25/2021, Private Non-Profit organizations that provide essential services of a governmental nature may file disaster loan applications at the address listed above or other locally announced locations.

The following areas have been determined to be adversely affected by the disaster:

Primary Parishes: Jefferson, Lafourche, Orleans, Plaquemines, Saint Bernard, Saint Charles, Saint Tammany, Terrebonne.

The Interest Rates are:

| Percent
For Physical Damage:
Non-Profit Organizations with Credit Available Elsewhere | 2.750
Non-Profit Organizations without Credit Available Elsewhere | 2.750
For Economic Injury:
Non-Profit Organizations without Credit Available Elsewhere | 2.750

The number assigned to this disaster for physical damage is 16884 8 and for economic injury is 16885 0.

(Catalog of Federal Domestic Assistance Number 59008)

Cynthia Pitts,
Acting Associate Administrator for Disaster Assistance.

[FR Doc. 2021-04391 Filed 3-2-21; 8:45 am]

BILLING CODE 8026-03-P